DEPARTMENT OF HEALTH AND HUMAN SERVICES

Indian Health Service

Reimbursement Rates for Calendar Year 2018

AGENCY: Indian Health Service, HHS.

ACTION: Notice.

Notice is given that the Acting Director of the Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2018 for Medicare and Medicaid beneficiaries, beneficiaries of other Federal programs, and for recoveries under the Federal Medical Care Recovery Act (42 U.S.C. 2651-2653). The inpatient rates for Medicare Part A are excluded from the table below, as they are paid based on the prospective payment system. Since the inpatient per diem rates set forth below do not include all physician services and practitioner services, additional payment shall be available to the extent that those services are provided.

Inpatient Hospital Per Diem Rate (Excludes Physician/Practitioner Services)

Calendar Year 2018

Lower 48 States $3,229

Alaska $3,277

Outpatient Per Visit Rate (Excluding Medicare)

Calendar Year 2018

Lower 48 States $427

Alaska $653

Outpatient Per Visit Rate (Medicare)

Calendar Year 2018

Lower 48 States $383

Alaska $595

Medicare Part B Inpatient Ancillary Per Diem Rate

Calendar Year 2018

Lower 48 States $740

Alaska $1,061

Outpatient Surgery Rate (Medicare)

Established Medicare rates for freestanding Ambulatory Surgery Centers.

Effective Date for Calendar Year 2018 Rates

Consistent with previous annual rate revisions, the Calendar Year 2018 rates will be effective for services provided on/or after January 1, 2018, to the extent consistent with payment authorities, including the applicable Medicaid State plan.

Dated: December 29, 2017.
Michael D. Weahkee,
RADM, Assistant Surgeon General, U.S. Public Health Service, Acting Director, Indian Health Service.

[FR Doc. 2018-00047 Filed 1-4-18; 8:45 am]

BILLING CODE 4165-16-P